SMALL BUSINESS ADMINISTRATION

Ironwood Mezzanine Fund II, L.P.; License No. 01/01-0414; Notice Seeking Exemption Under Section 312 of the Small Business Investment Act, Conflicts of Interest

Notice is hereby given that Ironwood Mezzanine Fund II, L.P. 200 Fisher Drive, Avon, CT 06001-3723, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Ironwood Mezzanine Fund II, L.P. proposes to provide debt/equity security financing to Action Carting Environmental Services, Inc., 451 Frelinghuysen Avenue, Newark, NJ 07114. The financing is contemplated as part of a debt/equity issuance, the proceeds of which will be used for planned acquisitions.

The financing is brought within the purview of § 107.730(a) of the Regulations because Ironwood Equity Fund, L.P., an Associate of Ironwood Mezzanine Fund II, L.P., owns more than ten percent of Action Carting Environmental Services, Inc., and this transaction is considered a Financing of an Associate requiring an exemption to the Regulations.

Notice is hereby given that any interested person may submit written comments on the transaction, within 15 days of the date of publication, to the Associate Administrator for Investment, U.S. Small Business Administration, 409 Third Street, SW., Washington, DC 20416.

Dated: December 9, 2009.
Sean Greene,
Associate Administrator for Investment.

[FR Doc. E9-30212 Filed 12-18-09; 8:45 am]

BILLING CODE 8025-01-P